SMALL BUSINESS ADMINISTRATION

Small Business Size Standards: Waiver of the Nonmanufacturer Rule

AGENCY: U.S. Small Business Administration.

ACTION: Notice of Decision not to proceed with issuance of a class waiver of the Nonmanufacturer Rule for Improved Outer Tactical Vests and related accessories under Product Service Code (PSC) 8470 (Armor Personal) under North American Industry Classification System (NAICS) code 339113 (Surgical Appliance and Supplies Manufacturing).

SUMMARY: The U. S. Small Business Administration (SBA) will not issue a class waiver of the non-manufacturer rule for PSC 8470 (Armor Personal), NAICS code 339113.

DATES: A printout of approved class waivers can be found at http://www.sba.gov/aboutsba/sbaprograms/gc/programs/gc_waivers_nonmanufacturer.html.

FOR FURTHER INFORMATION CONTACT: Pamela M. McClam, Program Analyst, by telephone at (202) 205-7408; by FAX at (202) 481-4783; or by e-mail at Pamela.McClam@sba.gov.

SUPPLEMENTARY INFORMATION: Section 8(a)(17) of the Small Business Act (Act), 15 U.S.C. 637(a)(17), requires that recipients of Federal contracts set aside for small businesses, service-disabled veteran-owned small businesses, or Participants in SBA's 8(a) Business Development (BD) Program provide the product of a small business manufacturer or processor, if the recipient is other than the actual manufacturer or processor of the product. This requirement is commonly referred to as the Nonmanufacturer Rule. 13 CFR § 121.406(b). Section 8(a)(17)(b)(iv) of the Act authorizes SBA to waive the Nonmanufacturer Rule for any “class of products” for which there are no small business manufacturers or processors available to participate in the Federal market.

A class of products is defined based on the Office of Management and Budget's NAICS codes and the General Services Administration's Product and Service Code Directory. Within each six-digit NAICS code are subdivisions of products that can be considered for a waiver. A request for a waiver of a class of products should refer to a specific subdivision, or statement of product, within a six-digit NAICS code. A waiver of the Nonmanufacturer Rule does not waive the entire class of products under a specific NAICS code. The class waiver waives specific products within a subdivision within a NAICS code.

Any individual or organization (government agency, business, association, etc.) may request a waiver for a class of products. The request should be in writing, addressed to the Director for Government Contracting and should specifically state the class (or classes) of products for which the waiver is sought.

In response to a request from a Federal Agency, SBA proposed to issue a Class Waiver for Improved Outer Tactical Vests, PSC 8470, NAICS code 339113, Federal Register Notice 20870. The SBA received multiple comments from small business manufacturers and distributors that have been awarded prime contracts or have submitted offers within the past 24 months.

Thus, SBA will not issue a class waiver from the non-manufacturer rule for PSC 8470 (Armor Personal) under NAICS code 339113.

Authority: 15 U.S.C. 634.

Karen Hontz,
Director for Government Contracting.

[FR Doc. 2010-11926 Filed 5-18-10; 8:45 am]

BILLING CODE 8025-01-P